DEPARTMENT OF HOMELAND SECURITY

Coast Guard

33 CFR Part 117

[Docket No. USCG-2009-0308]

RIN 1625-AA09

Drawbridge Operation Regulation; Old River, Between Victoria Island and Byron Tract, CA

AGENCY: Coast Guard, DHS.

ACTION: Advance notice of proposed rulemaking.

SUMMARY: The Coast Guard is seeking comments and information on how best to address a proposal to change the operating regulation for the State Highway 4 Drawbridge, mile 14.8, over Old River. The bridge owner has asked to change from the existing requirement by eliminating the “on signal” openings and replacing them with an “open on signal if at least 4 hours notice is given” at all times. The 4 hour notice would be provided to the drawtender at the Rio Vista drawbridge across the Sacramento River, mile 12.8. This proposed change may reduce unnecessary staffing of the drawbridge during observed periods of reduced navigational activity.

DATES: Comments and related material must reach the Coast Guard on or before July 23, 2010.

ADDRESSES: You may submit comments identified by docket number USCG-2009-0308 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329. To avoid duplication, please use only one of these four methods. See the “Public Participation and Request for Comments” portion of the SUPPLEMENTARY INFORMATION section below for instructions on submitting comments.

FOR FURTHER INFORMATION CONTACT: If you have questions on this notice, call or e-mail David H. Sulouff, Chief, Bridge Section, Eleventh Coast Guard District; telephone (510) 437-3516, e-mail David.H.Sulouff@uscg.mil. If you have questions on viewing or submitting material to the docket, call Renee V. Wright, Program Manager, Docket Operations, telephone 202-366-9826.

SUPPLEMENTARY INFORMATION:

Public Participation and Request for Comments

We encourage you to respond to this notice by submitting comments and related materials. All comments received will be posted without change to http://www.regulations.gov and will include any personal information you have provided.

Submitting Comments

If you submit a comment, please include the docket number for this notice (USCG-2009-0308), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rules” and insert “USCG-2009-0308” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2009-0308” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one before the comment period ends, using one of the four methods specified under ADDRESSES. Please explain why you believe a public meeting would be beneficial. If we determine that one would aid in solving this problem, we will hold one at a time and place announced by a later notice in the Federal Register.

Background

Presently, the California Department of Transportation (Caltrans) is the owner of the State Route 4 Drawbridge, mile 14.8, over Old River, between Victoria Island and Byron Tract, CA (herein referenced as Old River State Route 4 Drawbridge). Caltrans operates this drawbridge in accordance with 33 CFR 117.183: Specifically, opening the drawbridge on signal from May 1 through October 31 from 6 a.m. to 10 p.m. and from November 1 through April 30 from 9 a.m. to 5 p.m. and at all other times, opening the draw on signal if at least four hours advance notice is given to the drawtender at the Rio Vista drawbridge across the Sacramento River, mile 12.8. The Old River State Route 4 Drawbridge provides 12 feet of vertical clearance for vessels above Mean High Water (MHW) in the closed-to-navigation position and unlimited vertical clearance when open.

Old River is 44 miles in length and is navigable in its entirety, from Franks Tract Recreation Area to the west to the San Joaquin River to the east. It is located in the southern portion of the San Joaquin River Delta. There are approximately 10 marinas on Old River and nearby waterways. From July 2007 through July 2008 the Old River State Route 4 Drawbridge opened for vessels 42 times, an average of 3.5 times per month. From August 2008 through January 2009 the Old River State Route 4 Drawbridge opened 24 times, an average of 2 times per month. Most openings have been for recreational vessels. Commercial vessels regularly transiting the area are barges used in emergency and routine levee repair. Channel maintenance, dredging, search and rescue and law enforcement vessels also use the waterway.

Due to infrequent calls for drawbridge openings, Caltrans has requested a four hour notification for all drawbridge openings at this location. A four hour notification may allow Caltrans to use personnel more efficiently, reduce unnecessary staffing of the drawbridge during periods of navigational inactivity, and may continue to meet the reasonable needs of navigation on the waterway.

Information Requested

Based on the last analysis of this waterway the Coast Guard determined in 1985 that the existing regulation met the reasonable needs of waterway traffic while still meeting the needs of land traffic and Caltrans.

To aid us in developing this proposed rule, we seek response from all waterway users to the following questions:

(1) Would changing the existing operating schedule of the Old River State Route 4 Drawbridge (found at 33 CFR 117.183), to the proposed 4 hour advance notice at all times, add or subtract transit time through this bridge or on the waterway?

(2) Would there be a significant economic impact on a substantial number of small entities as described in the Regulatory Flexibility Act (5 U.S.C. 601-612)? The term “small entities” comprises small businesses, not-for-profit organizations that are independently owned and operated and are not dominant in their fields, and governmental jurisdictions with populations of less than 50,000.

This document is issued under authority of 5 U.S.C. 552(a); 33 CFR 1.05-1; and 117.8.

Dated: May 20, 2010.
J.R. Castillo,
Rear Admiral, U.S. Coast Guard, Commander, Eleventh Coast Guard District.

[FR Doc. 2010-13642 Filed 6-7-10; 8:45 am]

BILLING CODE 9110-04-P